DEPARTMENT OF HEALTH AND HUMAN SERVICES

Performance Review Board Members

Title 5, U.S.C. Section 4314(c)(4) of the Civil Service Reform Act of 1978, Public Law 95-454, requires that the appointment of Performance Review Board Members be published in the Federal Register.

The following persons may be named to serve on the Performance Review Boards or Panels, which oversee the evaluation of performance appraisals of Senior Executive Service members of the Department of Health and Human Services.

Employee last name | Employee first name
Agrawal | Shantanu
Atkinson | Leslie
Boulanger | Jennifer
Bowers | Tonya
Burton | Adriane
Cannistra | Jennifer
Cantwell | Kathleen
Carter | Cathy
Cavanaugh | Sean
Cheatham | Tina
Cheever | Laura
Conway | Patrick
Counihan | Keven
Dammons | Cheryl
Devoss | Elizabeth
Espinosa | Diana
Etziner | Michael
Garcia | Alexandra
Garner | Jacqueline
Goldhaber | Ben
Goodman | Richard
Hamilton | Thomas
Hammarlund | John
Handley | Elisabeth
Hartstein | Marc
Haseltine | Amy
Hattery | Debbra
Heffler | Stephen
Hill | Timothy
Jackson | Karen
Kane | Daniel
Kavanagh | Laura
Kerr | James
Killoran | Beth
Kramer | Martin
Kretschmaier | Michon
Lewis | Lisa
Lodes | Lori
Lu | Michael
Macrae | James
Malcomson | Dennis
Mills | George
Montilla | Maria
Moody-Williams | Jean
Morris | Thomas
Murray | Renard
Nelson | David
Novy | Steve
O'Connor | Nancy
O'Rourke | Williams
Padilla | Luis
Ponton | Wendy
Rajkumar | Rahul
Reilly | Nanette Foster
Rice | Cheri
Richter | Elizabeth
Sayen | David
Shatto | John
Spitalnic | Paul
Spitzgo | Rebecca
Stroup | Patricia
Tabe-Bedward | H. Arrah
Taylor | Deborah
Tudor | Cynthia
Vogel | Janet
Wachino | Victoria
Wagner | Dennis
Wakefield | Mark
Wallace | Mary
Weber | Mark
Weber | James
Wilson | Laurence
Worstell | Megan
Ziegler-Ragland | Cheryl

Dated: October 23, 2015.
Charles McEnerney,
Director, Executive and Scientific Resources Division.

[FR Doc. 2015-27749 Filed 10-29-15; 8:45 am]

BILLING CODE 4151-17-P